COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes service(s) previously furnished by such agencies.

DATES: Comments must be received on or before: December 20, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Grounds Maintenance Service

Mandatory for: US Army, US Army Communications-Electronics Command Headquarters, Aberdeen Proving Ground, MD

Designated Source of Supply: Chimes District of Columbia, Baltimore, MD

Contracting Activity: DEPT OF THE ARMY, W6QK ACC-APG DIR

Deletions

The following service(s) are proposed for deletion from the Procurement List:

Service(s)

Service Type: Document Destruction

Mandatory for: Internal Revenue Service: 40 West Baseline, Suite 211, Tempe, AZ

Mandatory for: Internal Revenue Service: 1244 Speer Blvd., Denver, CO

Mandatory for: Internal Revenue Service: 56 and 58 Inverness Drive E, Englewood, CO

Mandatory for: Internal Revenue Service: 4750 West Oak Boulevard, Las Vegas, NV

Mandatory for: Internal Revenue Service: 210 E Earl Drive, Phoenix, AZ

Mandatory for: Internal Revenue Service: 50 South 200 East, Salt Lake City, UT

Mandatory for: Internal Revenue Service: 8671 Wolff Ct, Westminster, CO

Designated Source of Supply: Northwest Center, Seattle, WA

Contracting Activity: INTERNAL REVENUE SERVICE, DEPT OF TREAS/INTERNAL REVENUE SERVICE

Michael R. Jurkowski,
Deputy Director, Business & PL Operations.

[FR Doc. 2020-25636 Filed 11-19-20; 8:45 am]

BILLING CODE 6353-01-P